DEPARTMENT OF DEFENSE

Department of the Army; Corps of Engineers

Intent To Prepare a Draft Supplement to the Environmental Impact Statement to Evaluate Construction of Authorized Improvements to the Federal Pascagoula Harbor Navigation Project in Jackson County, MS

AGENCY: Department of the Army, U.S. Army Corps of Engineers, DOD.

ACTION: Notice of intent.

SUMMARY: The Mobile District, U.S. Army Corps of Engineers (Corps), intends to prepare a Draft Supplement to the Environmental Impact Statement (DSEIS) to address the potential impacts associated with construction of authorized improvements to the Federal Pascagoula Harbor Navigation Project in Jackson County, MS. The DSEIS will be used as a basis for ensuring compliance with the National Environmental Policy Act (NEPA) and evaluating the following two alternative plans: “No Action” and widening and deepening to the authorized project dimensions. Construction of some of the authorized improvements was completed in 1999. Remaining authorized elements which will be evaluated include widening the Gulf Entrance channel from 450 feet to 550 feet wide and deepening the Upper Pascagoula channel from 38 feet to 42 feet deep.

FOR FURTHER INFORMATION CONTACT: Questions about the proposed action and the DSEIS should be addressed to Ms. Jenny Jacobson, Coastal Environmental Team, Mobile District, U.S. Army Corps of Engineers, P.O. Box 2288, Mobile, AL 36628 by telephone (251) 690-2724 or e-mail her at jennifer.l.jacobson@sam.usace.army.mil.

1. The March 1985 Pascagoula Harbor, MS Feasibility Report investigated increased widths and depths in the Pascagoula and Bayou Casotte navigation channels. Of the plans initially formulated, five were selected for detailed study along with the “No Action” alternative. All plans considered for detailed study included deepening all the channels in Mississippi Sound to 42 feet and the Entrance channel to 44 feet; widening of the Entrance channel to 550 feet; widening of the Bayou Casotte channel to 350 feet; and providing a 1,400-foot turning diameter turning basin just inside the month of Bayou Casotte. The 1985 Feasibility Report recommended deepening and widening the Gulf Entrance channel to 44 feet by 550 feet from the 44-foot depth contour in the Gulf of Mexico to the bend at the southern end of Horn Island Pass, deepening and widening Horn Island Pass to 44 feet by 600 feet between the bends at the southern and northern ends of that pass, for a distance of about 4 and ½ miles; reconfiguring the impoundment basin in Horn Island Pass to provide a section within the channel limits 1,500 feet long with a total depth of 56 feet to facilitate maintenance by hopper dredge, and allowing for future realignment of the Horn Island Pass reach as natural conditions warrant. In addition, deepening the Lower Pascagoula channel to 42 feet from the bend at the north end of Horn Island Pass, through Mississippi Sound and into the Pascagoula River, and terminating about 500 feet south of the grain elevator for a total distance of about 10 miles; widening the bend at the junction with the Bayou Casotte channel from the present 150 feet to 250 feet to provide a total width at the bend of 600 feet and widening the bend at the mouth of Pascagoula River by 280 feet to provide a total width at the bend of 630 feet. Finally, widening and deepening the Bayou Casotte channel to 42 feet by 350 feet from the junction with of the main channel to the mouth of Bayou Casotte, a distance of about 3 and ½ miles; with additional widening at the mouth to provide a turning basin with a total turning diameter of 1,150 feet, including the channel width; relieving the northern portion of the area between the junction wtih the main ship channel from the present 500 feet to 1,000 feet, and widening the bend at the mouth of Bayou Casotte from the present 50 feet to 100 feet to provide a total width at the bend of 450 feet. A Final EIS for the Designation of an Ocean Dredged Material Disposal Site (ODMDS) located offshore Pascagoula, MS was prepared in July 1991. Construction of all phases of the improvements, except for the Entrance channel being widened to 550 feet and the Pascagoula Upper channel being deepened to 42 feet, were completed in 1999.

2. Alternative scenarios to be considered include the “No action” alternative and deepening and widening the federally authorized project to 42 feet deep in the Upper Pascagoula channel and 550 feet wide in the Gulf Entrance channel, respectively. In addition, an array of disposal options are also being evaluated for the new work as well as for the maintenance material including littoral zone disposal, beneficial use, disposal in the existing Pascagoula ODMDS, and disposal in existing open-water disposal sites.

3. Scoping: a. The Corps invites full public participation to promote open communication on the issues surrounding the proposal. All Federal, State, and local agencies, and other persons or organizations that have an interest are urged to participate in the NEPA scoping process. Public meetings will be held to help identify significant issues and to receive public input and comment.

b. The DEIS will analyze the potential social, economic, and environmental impacts to the local area resulting from construction of authorized improvements. Specifically, the following major issues will be analyzed in depth in the DSEIS: Hydrologic and hydraulic regimes, threatened and endangered species, essential fish habitat and other marine habitat, air quality, cultural resources, transportation systems, alternatives, secondary and cumulative impacts, socioeconomic impacts, environmental justice (effect on minorities and low-income groups) (Executive Order 12898), and protection of children (Executive Order 13045).

c. The Corps will serve as the lead Federal agency in the preparation of the DSEIS. It is anticipated that the following agencies will be invited and will accept cooperating agency status for the preparation of the DSEIS: U.S. Environmental Protection Agency, U.S. Fish and Wildlife Service, National Marine Fisheries Service, Mississippi Department of Environmental Quality, Mississippi Department of Marine Resources, Jackson County Port Authority, City of Pascagoula, and State Historic Preservation Officer.

4. It is anticipated that the first scoping meeting will be held in the July 2006 time frame in the local area. Actual time and place for the meeting and subsequent meetings or workshops will be announced by the Corps by issuance of a public notice and/or notices in the local media.

5. It is anticipated that the DSEIS will be made available for public review in December 2006.

Curtis M. Flakes,
Chief, Planning and Environmental Division.

[FR Doc. 06-5385 Filed 6-13-05; 8:45 am]

BILLING CODE 3710-CR-M